DEPARTMENT OF ENERGY

Idaho Operations Office Notice of Availability of Solicitation for Awards of Financial Assistance

AGENCY: Idaho Operations Office, DOE.

ACTION: Notice of availability of Solicitation Number DE-PS07-03ID14434 University Reactor Instrumentation (URI) Program.

SUMMARY: The U.S. Department of Energy, Idaho Operations Office, is soliciting applications for special research grant awards that will upgrade and improve U.S. nuclear research and training reactors. It is anticipated that on October 1, 2002, a full text for Solicitation Number DE-PSO7-03ID14434 for the 2003 URI Program will be made available at the Industry Interactive Procurement System (IIPS) Web site at: http://e-center.doe.gov: The deadline for receipt of applications will be on December 5, 2002. Applications are to be submitted via the IIPS Website. Directions on how to apply and submit applications are detailed under the solicitation on the Web site.

FOR FURTHER INFORMATION CONTACT: Kathleen Stallman, Contract Specialist at stallmkm@id.doe.gov.

SUPPLEMENTARY INFORMATION: The solicitation will be issued in accordance with 10 CFR part 600.6(b), eligibility for awards under this program will be restricted to U.S. colleges and universities having a duly licensed, operating nuclear research or training reactor because the purpose of the University Reactor Instrumentation (URI) program is to upgrade and improve the U.S. university nuclear research and training reactors and to contribute to strengthening the academic community's nuclear engineering infrastructure.

The statutory authority for this program is Pub. L. 95-91.

Issued in Idaho Falls on September 26, 2002.
R.J. Hoyles,
Director, Procurement Services Division.

[FR Doc. 02-25529 Filed 10-7-02; 8:45 am]

BILLING CODE 6450-01-P